DEPARTMENT OF TRANSPORTATION

Federal Aviation Administration

14 CFR Part 39

[Docket No. FAA-2006-26647; Directorate Identifier 2006-NM-194-AD; Amendment 39-14957; AD 2007-04-24]

RIN 2120-AA64

Airworthiness Directives; Bombardier Model CL-600-2B19 (Regional Jet Series 100 & 440) Airplanes

AGENCY: Federal Aviation Administration (FAA), Department of Transportation (DOT).

ACTION: Final rule.

SUMMARY: The FAA is adopting a new airworthiness directive (AD) for certain Bombardier Model CL-600-2B19 (Regional Jet Series 100 & 440) airplanes. This AD requires repetitive inspections of the bolts that attach the exhaust nozzle to the aft engine flange to determine if any bolts are missing or fractured, and replacement of the existing bolts with new, improved bolts. This AD results from reports of the engine exhaust nozzle and fairing departing from the airplane in flight due to missing attachment bolts. We are issuing this AD to detect and correct missing or fractured attachment bolts, which could lead to the loss of an engine exhaust nozzle during flight and consequent structural damage to the airplane and hazard to people or property on the ground. Damage to the airplane could cause the airplane to yaw and result in reduced controllability of the airplane.

DATES: This AD becomes effective April 3, 2007.

The Director of the Federal Register approved the incorporation by reference of a certain publication listed in the AD as of April 3, 2007.

ADDRESSES: You may examine the AD docket on the Internet at http://dms.dot.gov or in person at the Docket Management Facility, U.S. Department of Transportation, 400 Seventh Street SW., Nassif Building, Room PL-401, Washington, DC.

Contact Bombardier, Inc., Canadair, Aerospace Group, P.O. Box 6087, Station Centre-ville, Montreal, Quebec H3C 3G9, Canada, for service information identified in this AD.

FOR FURTHER INFORMATION CONTACT: Rocco Viselli, Aerospace Engineer, Airframe and Propulsion Branch, ANE-171, FAA, New York Aircraft Certification Office, 1600 Stewart Avenue, suite 410, Westbury, New York 11590; telephone (516) 228-7331; fax (516) 794-5531.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Bombardier Model CL-600-2B19 (Regional Jet Series 100 & 440) airplanes. That NPRM was published in the Federal Register on December 26, 2006 (71 FR 77312). That NPRM proposed to require repetitive inspections of the bolts that attach the exhaust nozzle to the aft engine flange to determine if any bolts are missing or fractured, and replacement of the existing bolts with new, improved bolts.

Comments

We provided the public the opportunity to participate in the development of this AD. We received no comments on the NPRM or on the determination of the cost to the public.

Conclusion

We have carefully reviewed the available data and determined that air safety and the public interest require adopting the AD as proposed.

Costs of Compliance

The following table provides the estimated costs for U.S. operators to comply with this AD.

Estimated Costs
Action | Work hours | Average labor rate per hour | Parts | Cost per airplane | Number of U.S.- registered airplanes | Fleet cost
Inspection, per inspection cycle | 2 | $80 | None | $160, per inspection cycle | 686 | $109,760, per inspection cycle.
Replacement | 4 | $80 | $513 | $833 | 686 | $571,438.

Authority for this Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2007-04-24 Bombardier, Inc. (Formerly Canadair): Amendment 39-14957. Docket No. FAA-2006-26647; Directorate Identifier 2006-NM-194-AD.

Effective Date

(a) This AD becomes effective April 3, 2007.

Affected ADs

(b) None.

Applicability

(c) This AD applies to Bombardier Model CL-600-2B19 (Regional Jet Series 100 & 440) airplanes, certificated in any category; serial numbers (S/Ns) 7003 through 7067 inclusive and S/Ns 7069 through 7947 inclusive.

Unsafe Condition

(d) This AD results from reports of the engine exhaust nozzle and fairing departing from the airplane in flight due to missing attachment bolts. We are issuing this AD to detect and correct missing or fractured attachment bolts, which could lead to the loss of an engine exhaust nozzle during flight and consequent structural damage to the airplane and hazard to people or property on the ground. Damage to the airplane could cause the airplane to yaw and result in reduced controllability of the airplane.

Compliance

(e) You are responsible for having the actions required by this AD performed within the compliance times specified, unless the actions have already been done.

Repetitive Inspections

(f) Within 1,500 flight hours after the effective date of this AD: For the left and right engine exhaust nozzles, do a detailed inspection of the bolts that attach the exhaust nozzle to the aft engine flange to determine if any bolts are missing or fractured, in accordance with Part A of the Accomplishment Instructions of Bombardier Service Bulletin 601R-78-021, dated June 2, 2006. If no bolt of an engine exhaust nozzle is missing or fractured, repeat the detailed inspection for that engine exhaust nozzle thereafter at intervals not to exceed 1,500 flight hours, until the replacement specified in paragraph (g) or (h) of this AD is accomplished.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Corrective Action, if Necessary

(g) If any bolt of an engine exhaust nozzle is found missing or fractured during any inspection required by paragraph (f) of this AD, before further flight, replace the existing bolts that attach the exhaust nozzle to the aft engine flange with new, improved bolts, in accordance with Part B of the Accomplishment Instructions of Bombardier Service Bulletin 601R-78-021, dated June 2, 2006. Accomplishing the bolt replacement for an engine exhaust nozzle terminates the repetitive inspections required by paragraph (f) of this AD for that engine exhaust nozzle only.

Note 2: Bombardier Service Bulletin 601R-78-021, dated June 2, 2006, refers to Bombardier Service Bulletin CF34-NAC-78-024, Revision 4, dated November 10, 2005, as an additional source of service information for accomplishment of the replacement.

Terminating Action

(h) Within 4,000 flight hours after the effective date of this AD: For the left and right engine exhaust nozzles, replace the existing bolts that attach the exhaust nozzle to the aft engine flange with new, improved bolts, in accordance with Part B of the Accomplishment Instructions of Bombardier Service Bulletin 601R-78-021, dated June 2, 2006. Accomplishing the replacement for the left and right engine exhaust nozzles terminates all of the inspections required by paragraph (f) of this AD.

Alternative Methods of Compliance (AMOCs)

(i)(1) The Manager, New York Aircraft Certification Office, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(j) Canadian airworthiness directive CF-2006-19, dated July 28, 2006, also addresses the subject of this AD.

Material Incorporated by Reference

(k) You must use Bombardier Service Bulletin 601R-78-021, dated June 2, 2006, to perform the actions that are required by this AD, unless the AD specifies otherwise. The Director of the Federal Register approved the incorporation by reference of this document in accordance with 5 U.S.C. 552(a) and 1 CFR part 51. Contact Bombardier, Inc., Canadair, Aerospace Group, P.O. Box 6087, Station Centre-ville, Montreal, Quebec H3C 3G9, Canada, for a copy of this service information. You may review copies at the FAA, Transport Airplane Directorate, 1601 Lind Avenue, S.W., Renton, Washington; or at the National Archives and Records Administration (NARA). For information on the availability of this material at NARA, call 202-741-6030, or go to: http://www.archives.gov/federal-register/cfr/ibr-locations.html.

Issued in Renton, Washington, on February 13, 2007.
Ali Bahrami,
Manager, Transport Airplane Directorate, Aircraft Certification Service.

[FR Doc. E7-2973 Filed 2-26-07; 8:45 am]

BILLING CODE 4910-13-P